DEPARTMENT OF ENERGY

Federal Energy Regulatory Commission

[Docket No. AD22-9-000]

New England Winter Gas-Electric Forum; Supplemental Notice of Second New England Winter Gas-Electric Forum

As announced in the Notice of Forum issued in this proceeding on February 16, 2023, the Federal Energy Regulatory Commission (Commission) will convene a Commissioner-led forum on Tuesday, June 20, 2023, from approximately 9:00 a.m. to 5:00 p.m. Eastern Time, to discuss possible solutions to the electricity and natural gas challenges facing the New England Region. A preliminary agenda for this forum is attached. The Commission will issue a further supplemental notice with a full agenda and the confirmed panelists prior to the forum. The forum will be open to the public and be held at the DoubleTree by Hilton Portland, 363 Maine Hall Rd, Portland, ME 04106.

The purpose of the forum is to continue discussion from the September 8, 2022, forum about the electricity and natural gas challenges facing the New England region. This forum will discuss studies on extreme weather risks, infrastructure on the electric and gas systems in New England, and infrastructure and market design reforms to aid with the electric and gas system challenges faced historically during New England winters. The goal of this forum is to identify solutions to address the electric and gas system challenges and discuss timing of their potential implementation.

While the forum is not for the purpose of discussing any specific matters before the Commission, some forum discussions may involve issues raised in proceedings that are currently pending before the Commission. These proceedings include, but are not limited to:

Constellation Mystic Power LLC | Docket Nos. ER18-1639-000, ER18-1639-014, ER18-1639-015, ER18-1639-018, ER18-1639-019, ER18-1639-021, ER18-1639-022.
ISO New England Inc | Docket Nos. ER19-1428-000, ER19-1428-001, ER19-1428-002, ER19-1428-003, ER19-1428-004, ER19-1428-005, ER19-1428-006.
NextEra Energy Seabrook, LLC | Docket Nos. EL21-3-000, EL21-3-001.
NECEC Transmission LLC and Avangrid, Inc. v. NextEra Energy Resources, LLC | Docket Nos. EL21-6-000, EL21-6-001.
Belmont Municipal Light Dep't et al. v. Constellation Mystic Power, LLC and ISO New England, Inc | Docket No. EL23-4-000.

Only Commissioners and panelists will participate in the panel discussions. The forum will be open to the public for listening and observing, and written comments may be submitted in Docket No. AD22-9-000.

Registration for in-person attendance will be required, and there is no fee for attendance. A link to attendee registration will be available on the New England Winter Gas-Electric Forum event page on the Commission's website. Due to space constraints, seating for this event will be limited and registrants that get a confirmed space will be contacted via email. Only confirmed registrants can be admitted to the forum given the maximum occupancy limit at the venue (as required by fire and building safety code). Therefore, the Commission encourages members of the public who wish to attend this event in person to register at their earliest convenience. Online registration will be open, as long as attendance capacity is available, until the day before the forum (June 19). Once registration has reached capacity, registration will be closed. However, those interested in attending after capacity has been reached can join a waiting list (using the same registration link) and be notified if space becomes available. Those who are unable to attend in person may watch the free webcast.

The webcast will allow persons to listen and observe the forum remotely but not participate. Information on this forum, including a link to the webcast, will be posted prior to the event on this forum's event page on the Commission's website. A recording of the webcast will be made available after the forum in the same location on the Calendar of Events. The forum will be transcribed. Transcripts of the forum will be available for a fee from Ace-Federal Reporters, Inc. (202-347-3700).

Individuals interested in participating as panelists should submit a self-nomination email by 5:00 p.m. Eastern time on Friday, May 19, 2023, to Panelist_NewEnglandForum@ferc.gov. The self-nominations should have “Panelist Self-Nomination” in the subject line and include the panelist's name, photograph, contact information, organizational affiliation, one-paragraph biography, and what panels the self-nominated panelist proposes to speak on.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this forum, please contact NewEnglandForum@ferc.gov or sarah.mckinley@ferc.gov for technical or logistical questions.

Dated: April 13, 2023.
Debbie-Anne A. Reese,
Deputy Secretary.

Second New England Winter Gas-Electric Forum

Docket No. AD22-9-000

June 20, 2023

Agenda

9:00 a.m.-9:15 a.m.: Welcome and Opening Remarks from the Chairman and Commissioners

9:15 a.m.-9:45 a.m.: Opening Presentations: Winters 2023/2024 and 2024/2025 in New England and the Role of Everett

The forum will commence with a presentation by ISO New England Inc. (ISO-NE) that discusses the upcoming winters of 2023/2024 and 2024/2025 with consideration for the Everett Marine Terminal's (Everett) availability and its impact on the ISO-NE electric grid. Following ISO-NE's presentation on upcoming winters, a second presentation will explain Everett's physical capabilities and its impact on the electric and natural gas systems in New England.

Panelists: To be announced.

9:45 a.m.-10:45 a.m.: Panel 1: Should Everett be Retained and, if so, how?

Panel 1 will allow panelists to provide their views on the need for Everett on the electric and natural gas systems in New England. This panel may also discuss fuel procurement needs and challenges, including the fuel procurement and LNG capabilities available to New England from facilities other than Everett. Finally, this panel will discuss the constraints surrounding the planned retirement of Everett and the expected impact on the electric and natural gas systems in New England in future winters.

Panelists: To be announced.

10:45 a.m.-11:15 a.m.: Third Presentation: Extreme Weather Risks to ISO-NE, Presentation of the EPRI Study by ISO-NE and EPRI

The third presentation, by ISO-NE and the Electric Power Research Institute (EPRI), will detail the development of the EPRI model, the assumptions used, parameters considered, and the study results for the target year of 2027.¹ ISO-NE and EPRI will also explain the study's key conclusions and offer thoughts on how those conclusions should be considered in the context of developing solutions to the region's electricity and natural gas challenges.

¹ Each year as part of its Annual Work Plan, ISO-NE develops “Anchor Projects” which for 2023 includes ISO-NE's work with EPRI to develop an “innovative framework for conducting a probabilistic energy-security study that assesses the operational impact of future extreme weather events.” See ISO-NE, ISO New England's 2023 Annual Work Plan, (October 2022) at 7, https://www.iso-ne.com/static-assets/documents/2022/10/2023_awp_final_10_12_22.pdf. The study is currently under development and information can be found on the ISO-NE website. See ISO-NE, Operational Impacts of Extreme Weather Events Key Project, https://www.iso-ne.com/committees/key-projects/operational-impacts-of-extreme-weather-events/.

Panelists: To be announced.

11:15 a.m.-12:15 p.m.: Panel 2: Reactions to the EPRI Study

This panel will provide panelists an opportunity to provide their reactions to the EPRI study's assumptions, inputs, and results. This panel will discuss what actionable steps should be taken, if any, as a result of the study's findings, and whether additional study or analysis is needed.

Panelists: To be announced.

12:15 p.m.-1:45 p.m.: Lunch Break

1:45 p.m.-3:00 p.m.: Panel 3: Path to Sustainable Solutions—Infrastructure

Based on the findings and issues identified in the previous panels and presentations, Panel 3 will shift toward discussing potential infrastructure solutions beyond winter 2023/2024. While retention of Everett has been raised as one possible solution, this panel will discuss the merits of other, longer-term solutions available to the region and the timelines for implementing them. Potential topics for discussion include: (1) new electric transmission interconnections with other regions; (2) the timing and impact of new offshore wind, onshore wind, and solar resource development; (3) transmission planning to enable efficient development of expected offshore wind additions; (4) increased natural gas pipeline infrastructure/capacity; and (5) increased oil and natural gas storage capability.

Panelists: To be announced.

3:15 p.m.-3:30 p.m.: Break

3:15 p.m.-4:30 p.m.: Panel 4: Path to Sustainable Solutions—Market Design

In Panel 4, Commissioners and panelists will discuss potential market solutions to New England's winter reliability challenges. Specifically, this panel will discuss any potential merits and benefits of market design changes to ISO-NE markets to enhance resource performance incentives, including incentives for resources to make advanced fuel procurements and/or maintain fuel inventories in the winter months; and align capacity market structure and rules with observed reliability risks—e.g., by reforming resource capacity accreditation and/or conducting prompt and/or seasonal capacity auctions.

Panelists: To be announced.

4:30 p.m.-5:00 p.m.: Closing Roundtable

In the Closing Roundtable, Commissioners and panelists will discuss what was learned through the presentations and panels and consider next steps. Topics will include what solutions stakeholders agree on pursuing and the timeline for implementing them as well as discussion of if, how, and when longer term solutions can be implemented sooner than currently expected.

Panelists: To be announced.

[FR Doc. 2023-08266 Filed 4-18-23; 8:45 am]

BILLING CODE 6717-01-P